DEPARTMENT OF THE TREASURY

United States Mint

Price for the Making American History Coin and Currency Set

AGENCY: United States Mint, Department of the Treasury.

ACTION: Notice.

SUMMARY: The United States Mint is announcing a price of $72.95 for the Making American History Coin and Currency Set.

FOR FURTHER INFORMATION CONTACT: B.B. Craig, Associate Director for Sales and Marketing; United States Mint; 801 9th Street NW., Washington, DC 20220; or call 202-354-7500.

Authority: 12 U.S.C. § 418; 31 U.S.C. §§ 5111, 5112 & 9701.

Dated: July 12, 2012.
Richard A. Peterson,
Deputy Director, United States Mint.

[FR Doc. 2012-17470 Filed 7-17-12; 8:45 am]

BILLING CODE P